DEPARTMENT OF HOMELAND SECURITY

Coast Guard

[Docket No. USCG-2007-28460]

Long Range Aids to Navigation (Loran-C) Program; Draft Programmatic Environmental Impact Statement

AGENCY: Coast Guard, DHS.

ACTION: Notice of availability and request for comments.

SUMMARY: The Coast Guard announces the availability of a Draft Programmatic Environmental Impact Statement (PEIS) on the Future of the Long Range Aids to Navigation (Loran-C) Program. We request your comments on the Draft PEIS.

DATES: Two public meetings concerning the Draft PEIS are planned. The public meetings will be held on February 18, 2009, in Washington, DC and on March 3, 2009, in New Orleans, LA. Comments and related material must reach the Docket Management Facility on or before March 9, 2009.

ADDRESSES: The Washington, DC meeting will be held at the Ronald Reagan Building and International Trade Center, Oceanic Rooms A & B, 1300 Pennsylvania Avenue, NW., Washington, DC 20004, telephone 202-312-1326. The New Orleans, LA meeting will be held at the Hilton New Orleans Riverside, Rosedown Room, 2 Poydras Street, New Orleans, LA 70140, telephone 504-556-3739. Each meeting will consist of an informational open house from 4:30 p.m. to 6 p.m. and a public scoping meeting from 6 p.m. to 8 p.m. The public meetings may end later than the stated time, depending on the number of persons wishing to speak.

Send written material or comments you wish to have as part of the meeting record to Department of Homeland Security, U.S. Coast Guard, (CG-54132) Electronic Navigation Branch, 2100 Second Street, SW., Washington, DC 20593-0001, Attn: LCDR Robert Manning no later than February 9, 2009.

You may submit comments identified by Coast Guard docket number USCG-2007-28460 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the DOT West Building, 1200 New Jersey Avenue, SE., Washington, DC 20590, between 9 a.m. and 5 p.m., Monday through Friday, except Federal holidays. The telephone number is 202-366-9329.

(4) Fax: 202-493-2251.

FOR FURTHER INFORMATION CONTACT: If you have questions on this notice, call LCDR Robert Manning, (CG-54132) Electronic Navigation Division, U.S. Coast Guard, telephone 202-372-1560, or e-mail robert.j.manning@uscg.mil. If you have questions on viewing or submitting material to the docket, call Renee V. Wright, Program Manager, Docket Operations, telephone 202-366-9826.

SUPPLEMENTARY INFORMATION:

Public Participation and Request for Comments

We encourage you to submit comments and related material on the Draft PEIS on the Future of the Loran-C Program. All comments received will be posted, without change, to http://www.regulations.gov and will include any personal information you have provided. We have an agreement with the Department of Transportation (DOT) to use the Docket Management Facility. Please see DOT's “Privacy Act” paragraph below.

Submitting comments: If you submit a comment, please include the docket number for this notice (USCG-2007-28460), and give the reason for each comment. You may submit your comments and material by electronic means, mail, fax, or delivery to Docket Management Facility at the address under ADDRESSES; but please submit your comments and material by only one means. We recommend that you include your name and a mailing address, an e-mail address, or a telephone number in the body of your document so that we can contact you if we have questions regarding your submission. For example, we may ask you to resubmit your comment if we are not able to read your original submission. If you submit them by mail or delivery, submit them in an unbound format, no larger than 8½ by 11 inches, suitable for copying and electronic filing. If you submit them by mail and would like to know that they reached the Docket Management Facility, please enclose a stamped, self-addressed postcard or envelope. We will consider all comments and material received during the comment period.

Viewing the comments and Draft PEIS: To view the comments and the Draft PEIS, go to http://www.regulations.gov, select the Advanced Docket Search option on the right side of the screen, insert USCG-2007-28460 in the Docket ID box, press Enter, and then click on the item in the Docket ID column. If you do not have access to the Internet, you may view the docket online by visiting the Docket Management Facility in Room W12-140 on the ground floor of the DOT West Building, 1200 New Jersey Avenue, SE., Washington, DC 20590, between 9 a.m. and 5 p.m., Monday through Friday, except Federal holidays. The Draft PEIS is also available at the project Web site, http://www.uscg-e2m.com/LoranPEIS/.

Privacy Act: Anyone can search the electronic form of all comments received into any of our dockets by the name of the individual submitting the comment (or signing the comment, if submitted on behalf of an association, business, labor union, etc.). You may review a Privacy Act, system of records notice regarding our public dockets in the January 17, 2008, issue of the Federal Register (73 FR 3316).

Background and Purpose

Loran is a radionavigation system first developed during World War II and operated by the USCG. The current system (Loran-C) is a low frequency hyperbolic radionavigation system approved for use in the Coastal Confluence Zone (CCZ) and as a supplemental air navigation aid. Loran-C provides navigation, location, and timing services for both civil and military air, land, and marine users in the continental U.S. (CONUS) and Alaska. The USCG operates 18 CONUS Loran Stations, 6 Alaska Loran Stations, and 24 monitoring sites.

The Draft PEIS on the Future of the Loran-C Program is a program-level document designed to provide the USCG with high-level analysis of the potential impacts on the human environment from the alternatives for the future of the Loran-C Program. The Draft PEIS evaluates the following five alternatives on the future of the USCG Loran-C Program:

(1) No Action Alternative. The No Action Alternative refers to the current, existing conditions without implementation of the Proposed Action.

(2) Decommission the USCG Loran-C Program and Terminate the North American Loran-C Signal.

(3) Automate, Secure, and Unstaff Loran-C Stations.

(4) Automate, Secure, Unstaff, and Transfer Management of the Loran-C Program to Another Government Agency.

(5) Automate, Secure, Unstaff, and Transfer Management of the Loran-C Program to Another Government Agency to Deploy an eLoran system.

The preferred alternatives include Automate, Secure, Unstaff, and Transfer Management of the Loran-C Program to Another Government Agency; or Automate, Secure, Unstaff, and Transfer Management of the Loran-C Program to Another Government Agency to Deploy an eLoran system. It is important to note that this draft PEIS does not obligate the Coast Guard, DHS, or any other entity to undertake any specific course of action with respect to Loran.

We are requesting your comments on the environmental concerns that you may have related to the Draft PEIS. This includes suggested analyses and methodologies for use in the Draft PEIS or possible sources of data for information not included in the Draft PEIS. Your comments will be considered in preparing the final PEIS.

Dated: December 30, 2008.
James A. Watson,
Rear Admiral, U.S. Coast Guard, Director of Prevention Policy.

[FR Doc. E9-1171 Filed 1-21-09; 8:45 am]

BILLING CODE 4910-15-P